COMMODITY FUTURES TRADING COMMISSION

Sunshine Act Meetings

TIME AND DATE: 9:00 a.m. ET, Wednesday, February 15, 2023.

PLACE: Virtual meeting.

STATUS: Open.

MATTERS TO BE CONSIDERED: The Commodity Futures Trading Commission (“Commission” or “CFTC”) will hold this meeting to consider the following matters:

• Advance Notice of Proposed Rulemaking (ANPRM) on Risk Management Program Regulations for Swap Dealers, Major Swap Participants, and Futures Commission Merchants; and

• Order Designating the Unique Product Identifier and Product Classification System to be Used in Recordkeeping and Swap Data Reporting.

The agenda for this meeting will be available to the public and posted on the Commission's website at https://www.cftc.gov. Instructions for public access to the live feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: February 8, 2023.
Christopher Kirkpatrick,
Secretary of the Commission.

[FR Doc. 2023-03043 Filed 2-8-23; 4:15 pm]

BILLING CODE 6351-01-P